DEPARTMENT OF THE TREASURY

Internal Revenue Service

26 CFR Parts 1 and 602

[TD 9424]

RIN 1545-BB61

Unified Rule for Loss on Subsidiary Stock

Correction

In rule document E8- 21006 beginning on page 53934 in the issue of Wednesday, September 17, 2008 make the following corrections:

§1.1502-13 [Corrected]

1. On page 53948, in the first column, §1.1502-13(a)(4), in the second line “(4) Application of other rules of law.” should read “(4) Application of other rules of law.”.

§1.1502-36 [Corrected]

2. On page 53962, in the third column, §1.1502-36(c)(8)(ii) at Example 6 (ii) (A), in the first paragraphs, in the 32nd line, “CNOL))” should read “CNOL)”.

3. On page 53964, in the second column, §1.1502-36(d)(4)(ii)(A), the first sentence, “(A) Category A, Category B, and Category C attributes.” should read “(A) Category A, Category B, and Category C attributes.”.

4. On page 53968, in the second column, §1.1502-36(d)(8) at Example 1 (ii), in paragraphs (A) and (B), “Example 1” should read “Example 1.”.

5. On page 53970, in the third column, §1.1502-36(d)(8) at Example 4. (i)(c) paragraph “(1)” should read, “1”.

6. On page the same page, in the second column, §1.1502-36(d)(8) at Example 4. (ii)(c) paragraph “(1)” should read,“(1)”.

7. On page 53974, in the third column, §1.1502-36(d)(8) at Example 8. (i)(c)(2) paragraph “(i)” should read, “(i)”.

8. On page 53975, in the third column, §1.1502-36(d)(8) at Example 8. (ii)(c)(2) paragraph “(i)” should read, “(i)”.

9. On page 53977, in the first column, §1.1502-36(d)(8) at Example 9. (iv)(B) paragraph “(1)” should read, “(1)”.

[FR Doc. Z8-21006 Filed 11-5-08; 8:45 am]

BILLING CODE 1505-01-D